DEPARTMENT OF THE INTERIOR

Fish and Wildlife Service

[FWS-R7-ES-2013-N145; 70120-1337-C4]

Endangered and Threatened Wildlife and Plants; Southwest Alaska Distinct Population Segment of the Northern Sea Otter (Enhydra lutris kenyoni): Availability of Recovery Plan

AGENCY: Fish and Wildlife Service, Interior.

ACTION: Notice of document availability.

SUMMARY: We, the U.S. Fish and Wildlife Service (Service), announce the availability of our recovery plan for the southwest Alaska Distinct Population Segment (DPS) of the northern sea otter (Enhydra lutris kenyoni), listed as threatened under the Endangered Species Act of 1973, as amended (Act). Our recovery plan describes the status, current management, recovery objectives and criteria, and specific actions needed to enable us to delist the southwest Alaska DPS of the northern sea otter.

ADDRESSES: Copies of the recovery plan are available by request from the Service, Marine Mammals Management Office, 1011 East Tudor Road, MS-341, Anchorage, AK 99503; telephone (907) 786-3800; facsimile (907) 786-3816. If you use a telecommunications device for the deaf (TDD), call the Federal Information Relay Service (FIRS) at 800-877-8339. An electronic copy of the draft recovery plan is also available at: http://alaska.fws.gov/fisheries/mmm/seaotters/recovery.htm.

FOR FURTHER INFORMATION CONTACT: Frances Mann, Sea Otter Program Lead, at the above address or telephone number.

SUPPLEMENTARY INFORMATION:

Previous Federal Action

We listed the southwest Alaska DPS of the northern sea otter as threatened on August 9, 2005 (70 FR 46366). For a description of the taxonomy, distribution, status, breeding biology and habitat, and a summary of factors affecting the species, please see the final listing rule. We designated critical habitat for this DPS on October 8, 2009 (74 FR 51988). On October 12, 2010, the Service published in the Federal Register a notice of the availability of the draft recovery plan for the southwest Alaska DPS of the northern sea otter (75 FR 62562) and requested comments on the draft recovery plan. We received six comments in response. On April 26, 2013, we announced our active status review for the southwest Alaska DPS of the northern sea otter in the Federal Register and invited comments and new information to assist us in our review (78 FR 24767).

The Service carefully considered the comments, recommendations, and suggestions provided by the State of Alaska, the Marine Mammal Commission, nongovernmental organizations, and others on the draft recovery plan. We revised the recovery plan, as appropriate, to address the comments, recommendations, and suggestions received.

Background

The southwest Alaska DPS of the northern sea otter's range extends from Attu Island at the western end of the Near Islands in the Aleutians, east to Kamishak Bay on the western side of lower Cook Inlet, and includes waters adjacent to the Aleutian Islands, the Alaska Peninsula, the Kodiak Archipelago, and the Barren Islands (see Figure 3 of the Proposed Listing Rule; 69 FR 6605; February 11, 2004). Within this range, sea otters generally occur in nearshore, shallow waters less than 100 meters (328 feet) in depth. This population experienced a rapid decline in abundance of more than 50 percent since the late 1980s. At the time of our 2005 final listing rule, the DPS consisted of approximately 42,000 sea otters.

Recovery of endangered or threatened animals and plants to the point where they are again secure, self-sustaining members of their ecosystems is a primary goal of our endangered species program. The Act requires us to develop recovery plans for listed species, unless such a plan would not promote the conservation of a particular species. We prepare recovery plans for most listed species native to the United States. Recovery plans describe actions necessary for the conservation and survival of the species, establish criteria for reclassifying or delisting listed species, and estimate time and cost for implementing needed recovery measures. Section 4(f) of the Act requires us to provide public notice and an opportunity for public review and comment during recovery plan development.

In March 2006, the Regional Director for the Alaska Region of the Service formed a recovery team to serve in an advisory capacity to develop a draft recovery plan for the southwest Alaska DPS of the northern sea otter.

Current Range and Threats

The current range of the southwest Alaska DPS of the northern sea otter extends from west to east across more than 2400 kilometers (approximately 1,500 miles) of shoreline. The magnitude of the population decline has varied over the range. In some areas, numbers have declined by more than an order of magnitude, while in other areas no decline has been detected. To address such differences, this recovery plan identifies five management units (MUs) within the DPS: (1) Western Aleutian Islands; (2) Eastern Aleutian Islands; (3) South Alaska Peninsula; (4) Bristol Bay; and (5) Kodiak Archipelago, Kamishak Bay, and Alaska Peninsula.

The cause of the overall decline is not known with certainty, but the weight of evidence points to increased predation, most likely by the killer whale, as the most likely cause. Predation is therefore considered a threat to the recovery of this DPS, but other threats, including infectious disease, biotoxins, contaminants, oil spills, food limitation, disturbance, bycatch in fisheries, subsistence harvest, loss of habitat, and illegal take, are also considered in this recovery plan. Threats are summarized in general, and their relative importance is assessed for each of the five MUs. Most threats are assessed to be of low importance to recovery of the DPS; the threats judged to be most important are predation (moderate to high importance) and oil spills (low to moderate importance). Threats from subsistence harvest, illegal take, and infectious disease are assessed to be of moderate importance in the Kodiak, Kamishak, and Alaska Peninsula MU, but of low importance elsewhere.

Goals of Recovery Plan

The goal of the recovery plan is to control or reduce threats to the southwest Alaska DPS of the northern sea otter to the extent that this DPS no longer requires the protections afforded by the Act and therefore can be delisted. To achieve this goal, the recovery plan identifies three objectives: (1) Achieve and maintain a self-sustaining population of sea otters in each MU; (2) maintain enough sea otters to ensure that they are playing a functional role in their nearshore ecosystem; and (3) mitigate threats sufficiently to ensure persistence of sea otters. Each of these objectives includes objective, measurable criteria to determine if the objective has been met; these are known as “delisting criteria.” They require that, in order for the DPS to be removed from the Endangered and Threatened Species List, at least three of the five MUs must have met the delisting criteria. The plan also contains criteria to determine if the DPS should be considered for reclassification as endangered; these are known as “uplisting criteria.” Delisting should not be considered if any MU meets the criteria specified for uplisting to endangered.

Site-specific management actions to achieve recovery and delisting of the DPS are specified in the recovery action outline and narrative. As demographic characteristics of the population constitute one of the three types of delisting criteria, population monitoring and population modeling are high priorities. Monitoring the status of the kelp forest ecosystem in the Western Aleutian and Eastern Aleutian management units is also a high priority, as results from such monitoring will be needed to evaluate the ecosystem-based delisting criteria. Other high-priority actions include identifying characteristics of sea otter habitat, and ensuring that adequate oil spill response capability exists in southwest Alaska. As predation is considered to be the most important threat to recovery, additional research on that topic is also a high priority. The recovery implementation schedule provides details regarding the timing, costs, and agencies or entities responsible for implementing each recovery action necessary to achieve the recovery plan's objectives and goal.

We welcome continuing input on this recovery plan, and we will consider information received on an ongoing basis to inform the implementation of recovery activities and any future updates to the recovery plan.

Authority: The authority for this action is section 4(f) of the Act, 16 U.S.C. 1533(f).

Dated: August 29, 2013.
Geoffrey L. Haskett,
Regional Director, Alaska Region, U.S. Fish and Wildlife Service.

[FR Doc. 2013-21718 Filed 9-5-13; 8:45 am]

BILLING CODE 4310-55-P